EQUAL EMPLOYMENT OPPORTUNITY COMMISSION

Agency Information Collection Activities: Proposed Collection; Submission for OMB Review

AGENCY: Equal Employment Opportunity Commission.

ACTION: Notice of Information Collection—Extension Without Change: State and Local Government Information Report (EEO-4).

SUMMARY: In accordance with the Paperwork Reduction Act, the Equal Employment Opportunity Commission (EEOC) announces that it is submitting to the Office of Management and Budget (OMB) a request for a three-year extension without change of the State and Local Government Information Report (EEO-4 Report, Form 164).

DATES: Written comments on this notice must be submitted on or before May 25, 2018.

ADDRESSES: Comments on this notice must be submitted to Joseph B. Nye, Policy Analyst, Office of Information and Regulatory Affairs, Office of Management and Budget, 725 17th Street NW, Washington, DC 20503, email oira_submission@omb.eop.gov. Commenters are also encouraged to send comments to the EEOC online at http://www.regulations.gov, which is the Federal eRulemaking Portal. Follow the instructions on the website for submitting comments. In addition, the EEOC's Executive Secretariat will accept comments in hard copy. Hard copy comments should be sent to Bernadette Wilson, Executive Officer, EEOC, 131 M Street NE, Washington, DC 20507. Finally, the Executive Secretariat will accept comments totaling six or fewer pages by facsimile (“fax”) machine before the same deadline at (202) 663-4114. (This is not a toll-free number.) Receipt of fax transmittals will not be acknowledged, except that the sender may request confirmation of receipt by calling the Executive Secretariat staff at (202) 663-4070 (voice) or (202) 663-4074 (TTY). (These are not toll-free telephone numbers.) The EEOC will post online at http://www.regulations.gov all comments submitted via this website, in hard copy, or by fax to the Executive Secretariat. These comments will be posted without change, including any personal information you provide. However, the EEOC reserves the right to refrain from posting libelous or otherwise inappropriate comments including those that contain obscene, indecent, or profane language; that contain threats or defamatory statements; that contain hate speech directed at race, color, sex, national origin, age, religion, disability, or genetic information; or that promote or endorse services or products. All comments received, including any personal information provided, also will be available for public inspection during normal business hours by appointment only at the EEOC Headquarters Library, 131 M Street NE, Washington, DC 20507. Upon request, individuals who require assistance viewing comments will be provided appropriate aids such as readers or print magnifiers. To schedule an appointment, contact EEOC Library staff at (202) 663-4630 (voice) or (202) 663-4641 (TTY). (These are not toll-free numbers.)

FOR FURTHER INFORMATION CONTACT: Benita Marsh, Director of Surveys, Office of Research, Information and Planning, Equal Employment Opportunity Commission, 131 M Street NE, Room 4SW32H, Washington, DC 20507; (202) 663-7197 (voice) or by email at Benita.Marsh@eeoc.gov. Requests for this notice in an alternative format should be made to the Office of Communications and Legislative Affairs at (202) 663-4191 (voice) or (202) 663-4494 (TTY).

SUPPLEMENTARY INFORMATION: State and local governments with 100 or more employees have been required to submit EEO-4 reports since 1974 (biennially in odd-numbered years since 1993). A notice that EEOC would be submitting this request was published in the Federal Register on February 2, 2018, allowing for a 60-day public comment period. Seven comments were received from the public; however, none of these comments addressed the EEO-4 report. Accordingly, no changes have been made to the report based upon the unresponsive comments.

Overview of Current Information Collection

Collection Title: State and Local Government Information Report (EEO-4).

OMB Number: 3046-0008.

Frequency of Report: Biennial.

Type of Respondent: State and local government jurisdictions with 100 or more employees.

Description of Affected Public: State and local governments excluding public elementary and secondary public school districts.

Number of Respondents: 5,128.¹

¹ This number represents the total number of state and local government respondents from the most recent reporting cycle in 2015.

Number of Responses: 12,197.²

² This number represents the total number of reports filed during the 2015 reporting cycle; it is larger than the number of respondents due to the requirement for some state and local governments to file separate reports by function.

Biennial Reporting Hours: 85,379.

Biennial Cost to Respondents: $1,646,107.12.

Federal Cost: $251,920.

Number of Forms: 1.

Form Number: EEOC FORM 164.

Abstract: Section 709(c) of Title VII of the Civil Rights Act of 1964, as amended, 42 U.S.C. 2000e-8(c), requires employers to make and keep records relevant to a determination of whether unlawful employment practices have been or are being committed, to preserve such records and to produce reports as the Commission prescribes by regulation or order. Accordingly, the EEOC issued regulations at 29 CFR 1602.32-1602.37 prescribing the reporting requirements for State and local governments. The individual reports are confidential.

EEO-4 data are used by the EEOC to investigate charges of discrimination against state and local governments and to provide information on the employment status of minorities and women. The data are shared with several other Federal agencies. Pursuant to section 709(d) of Title VII of the Civil Rights Act of 1964, U.S.C. 2000e-8(d), as amended, EEO-4 data are shared with State and Local Fair Employment Practices Agencies (FEPAs). Aggregated data are also used by researchers and the general public.

Burden Statement: The EEOC has updated its methodology for calculating biennial burden to reflect the time spent by staff that are responsible for preparing and filing the EEO-4 report. Based upon its years of experience and interactions with EEO-4 filers, the EEOC now accounts for time to be spent biennially on EEO-4 reporting by human resources assistants. The estimated number of respondents included in the biennial estimate is 5,128 state and local government respondents, as this is the number of EEO-4 filers from the 2015 reporting cycle. These 5,128 filers submit an estimated 12,197 reports biennially. The estimated hour burden per report will be 7 hours; this estimate is supported by information on hour burden collected from a sample of both small and large EEO-4 filers. The estimated total biennial respondent burden hours will be 85,379 hours. Burden hour cost was calculated using median hourly wage rates for human resources assistants.³ The burden hour cost per report will be $134.96, and the estimated total biennial burden hour cost will be $1,646,107.12. (See Table 1 below.)

³ The rate of $19.28 per hour is based on the mean hourly pay rate of human resources assistants (Occupational Employment Statistics, Occupational Employment and Wages, May 2016, 43-4161 Human Resources Assistants, Except Payroll and Timekeeping, https://www.bls.gov/oes/2016/may/oes434161.htm, U.S. Bureau of Labor Statistics, Division of Occupational Employment Statistics).

⁴ The figures in this column were calculated by multiplying the hourly wage rate by the hours per report (7).

⁵ The figures in this column were calculated by multiplying the hours per report by 12,197, the total number of responses.

⁶ The figures in this column were calculated by multiplying the burden hour cost per report by 12,197, the total number of responses.

TABLE 1—Estimate of Biennial Burden for EEO-4 Report
State and local governments | Hourly wage rate | Hours per local government report | Burden hour cost per report ⁴ | Total burden hours ⁵ | Total burden hour cost ⁶
Number of State and Local Government Respondents = 5,128 | Number of Reports Submitted = 12,197
HUMAN RESOURCES ASSISTANTS | $19.28 | 7 | $134.96 | 85379 | $1,646,107.12
TOTAL | 19.28 | 7 | 134.96 | 85379 | 1,646,107.12

The cost estimates are based on the assumption that filers use online reporting. For the 2015 EEO-4 report, 85% of EEO-4 filers submitted their report via online reporting and 5% of EEO-4 reports were submitted using the data upload method. The remaining 10% of filers submitted reports via the paper method. The EEOC has made electronic filing much easier for employers required to file the EEO-4 Report. As a result, more jurisdictions are using this filing method. This development, along with the greater availability of human resource information software, is expected to have significantly reduced the actual burden of reporting.

Dated: April 18, 2018.
For the Commission.
Victoria A. Lipnic,
Acting Chair.

[FR Doc. 2018-08685 Filed 4-24-18; 8:45 am]

BILLING CODE 6570-01-P